DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Tarrant, Dallas, and Collin Counties, Texas and Marion County, Indiana. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before August 16, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The projects and actions that are the subject of this notice are:

1. Project name and location. Cotton Belt Corridor Regional Rail Project, Tarrant, Dallas, and Collin Counties, Texas. Project Sponsor: Dallas Area Rapid Transit (DART). Project description: The project will provide a new 26-mile double-track regional commuter rail line extending from Dallas-Fort Worth International Airport (DFW Airport) Terminal B in Tarrant County to Shiloh Road in Plano, connecting with the existing DART Orange Line at DFW Airport, the Green Line in Carrollton, and the Red Line in the Plano/Richardson area. The commuter line will have 10 stations and will traverse through 3 counties in Texas: Tarrant, Dallas, and Collin; and 7 cities: Grapevine, Coppell, Dallas, Carrollton, Addison, Richardson, and Plano. The project includes a procurement of eight diesel multiple unit vehicles and construction of an equipment maintenance facility to store and maintain vehicles. Based on review of the Draft EIS and consideration of public and agency comments, FTA, as the lead agency, and FAA, as a cooperating agency, issued a combined FEIS/ROD for the Cotton Belt Corridor Regional Rail Project on November 9, 2018. Nothing in this notice affects FTA's previous decisions, or notice thereof, for this project. Final agency actions: Section 4(f) de minimis impact determination; Section 106 finding of adverse effect and Memorandum of Agreement (MOA) dated September 25, 2018; project-level air quality conformity; and Final Environmental Impact Statement/Record of Decision, dated November 9, 2018. Supporting documentation: Draft Environmental Impact Assessment for the Cotton Belt Corridor Regional Rail Project, dated April 10, 2018.

2. Project name and location: The Purple Line Bus Rapid Transit Project, Marion County, Indiana. Project sponsor: The Indianapolis Public Transportation Corporation. Project description: The Purple Line Bus Rapid Transit Project will implement a mixed-traffic/dedicated lane Bus Rapid Transit (BRT) route that is part of a system-wide expansion of both local route and BRT services identified in the Marion County Transit Plan. The approximately 14.8-mile BRT route will serve northern and eastern Marion County, connecting the Julia M. Carson Transit Center in downtown Indianapolis with the Ivy Tech Community College in Lawrence. The Purple Line BRT system consists of 31 BRT stations, including 7 shared stations with the Red Line BRT, which will be constructed prior to the Purple Line BRT, as well as 23 new Purple Line stations. A potential 24th station location is being considered at Otis Avenue and Wheeler Road near the Lawrence terminus. Project infrastructure improvements include the construction of sidewalks, a new multi-use path along East 38th Street, drainage improvements, pavement replacement, new traffic signals, and a new multi-use path along the north side of East 38th Street between Tacoma and Sheridan Avenues. This notice only applies to the discrete actions taken by FTA at this time, as described below. Nothing in this notice affects FTA's previous decisions, or notice thereof, for this project. Final agency actions: Section 4(f) de minimis impact determination; Section 106 finding of adverse effect and MOA dated February 7, 2019; project-level air quality conformity; and determination of the applicability of a Documented Categorical Exclusion pursuant to 23 CFR 771.118(d) dated February 22, 2019. Supporting documentation: Documented Categorical Exclusion checklist and supporting materials, dated February 2019.

Elizabeth S. Riklin,
Deputy Associate Administrator for Planning and Environment.

[FR Doc. 2019-05093 Filed 3-18-19; 8:45 am]

BILLING CODE P